SMALL BUSINESS ADMINISTRATION

[Declaration of Disaster #3337]

State of Iowa

As a result of the President's major disaster declaration on May 2, 2001, I find that the following Counties in the State of Iowa constitute a disaster area due to damages caused by flooding, severe storms and tornadoes beginning on April 8, 2001 and continuing: Allamakee, Buchanan, Clayton, Clinton, Des Moines, Dubuque, Jackson, Lee, Louisa, Muscatine, Ringgold, Scott and Wapello Counties. Applications for loans for physical damage as a result of this disaster may be filed until the close of business on July 1, 2001, and for loans for economic injury until the close of business on February 1, 2002 at the address listed below or other locally announced locations: U.S. Small Business Administration, Disaster Area 3 Office, 4400 Amon Carter Blvd., Suite 102, Fort Worth, TX 76155.

In addition, applications for economic injury loans from small businesses located in the following contiguous counties may be filed until the specified date at the above location: Adams, Appanoose, Benton, Black Hawk, Bremer, Cedar, Clarke, Davis, Decatur, Delaware, Fayette, Henry, Jefferson, Johnson, Jones, Keokuk, Linn, Mahaska, Monroe, Taylor, Union, Van Buren, Washington and Winneshiek Counties in Iowa; Carroll, Hancock, Henderson, Jo Daviess, Mercer, Rock Island, and Whiteside Counties in Illinois; Houston County in Minnesota; Clark, Harrison and Worth Counties in Missouri; and Crawford, Grant and Vernon Counties in Wisconsin.

The interest rates are:

| Percent
For Physical Damage:
Homeowners With Credit Available Elsewhere | 6.625
Homeowners Without Credit Available Elsewhere | 3.312
Businesses With Credit Available Elsewhere | 8.000
Businesses and Non-profit Organizations Without Credit Available Elsewhere | 4.000
Others (Including Non-profit Organizations) With Credit Available Elsewhere | 7.125
For Economic Injury:
Businesses and Small Agricultural Cooperatives Without Credit Available Elsewhere | 4.000

The number assigned to this disaster for physical damage is 333706. For economic injury the numbers are 9L6100 for Iowa, 9L6200 for Illinois, 9L6300 for Minnesota, 9L6400 for Missouri, and 9L6500 for Wisconsin.

(Catalog of Federal Domestic Assistance Program Nos. 59002 and 59008.)

May 3, 2001.
Herbert L. Mitchell,
Associate Administrator for Disaster Assistance.

[FR Doc. 01-11603 Filed 5-8-01; 8:45 am]

BILLING CODE 8025-01-U